ENVIRONMENTAL PROTECTION AGENCY

40 CFR Part 751

[EPA-HQ-OPPT-2016-0163; EPA-HQ-OPPT-2016-0387; FRL-9959-03]

RIN 2070-AK03; 2070-AK11

Trichloroethylene (TCE); Regulation of Certain Uses Under Toxic Substances Control Act; Extension of Comment Periods

AGENCY: Environmental Protection Agency (EPA).

ACTION: Proposed rule; extension of comment periods.

SUMMARY: EPA issued two proposed rules under section 6 of the Toxic Substances Control Act (TSCA) to prohibit the manufacture (including importers), processing, and distribution in commerce of trichloroethylene (TCE) for use in aerosol degreasing, for use in spot cleaning in dry cleaning facilities, and for use in vapor degreasing; to prohibit commercial use of TCE for aerosol degreasing, for spot cleaning in dry cleaning facilities, and for use in vapor degreasing; to require manufacturers (including importers), processors, and distributors, except for retailers of TCE for any use, to provide downstream notification of these prohibitions throughout the supply chain; and to require limited recordkeeping. This document extends the comment periods for both proposed rules by an additional 30 calendar days each. A commenter requested additional time to submit written comments for the proposed rules. EPA is therefore extending the comment period in order to give all interested persons the opportunity to comment fully.

DATES: The comment period of the proposed rule published in the Federal Register of December 16, 2016 (81 FR 91592) is extended to March 16, 2017, and the comment date of the proposed rule published in the Federal Register of January 19, 2017 (82 FR 7432) is delayed to April 19, 2017.

ADDRESSES: Submit your comments, using the applicable docket ID number identified for that proposed rule, go at http://www.regulations.gov. Follow the online instructions for submitting comments. Once submitted, comments cannot be edited or withdrawn. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods (e.g., mail or hand delivery), the full EPA public comment policy, information about CBI or multimedia submissions, and general guidance on making effective comments, please visit http://www2.epa.gov/dockets/commenting-epa-dockets.

Docket. The docket for each proposed rule contains supporting information used in developing the proposed rule, comments on the proposed rule, and additional supporting information. In addition to being available online at http://www.regulations.gov, the docket is available for inspection and copying between 8:30 a.m. and 4:30 p.m., Monday through Friday, excluding federal holidays, at the U.S. Environmental Protection Agency, EPA Docket Center Reading Room, WJC West Building, Room 3334, 1301 Constitution Avenue NW., Washington, DC 20004. A reasonable fee may be charged for copying.

FOR FURTHER INFORMATION CONTACT: For technical information contact: Toni Krasnic, Chemical Control Division, Office of Pollution Prevention and Toxics, Environmental Protection Agency, 1200 Pennsylvania Ave. NW., Washington, DC 20460-0001; telephone number: (202) 564-0984; email address: krasnic.toni@epa.gov.

For general information contact: The TSCA-Hotline, ABVI-Goodwill, 422 South Clinton Ave., Rochester, NY 14620; telephone number: (202) 554-1404; email address: TSCA-Hotline@epa.gov.

SUPPLEMENTARY INFORMATION: This document extends the public comment period established in the proposed rules issued in the Federal Register of December 16, 2016 (81 FR 91592) (FRL-9949-86) and January 19, 2017 (82 FR 7432) (FRL-9950-08). In those documents, EPA proposed under TSCA section 6 to prohibit the manufacture (including imports), processing, and distribution in commerce of TCE for use in aerosol degreasing, for use in spot cleaning in dry cleaning facilities, and for use in vapor degreasing; to prohibit commercial use of TCE for aerosol degreasing, for spot cleaning in dry cleaning facilities, and for use in vapor degreasing; to require manufacturers (including importers), processors, and distributors, except for retailers of TCE for any use, to provide downstream notification of these prohibitions throughout the supply chain; and to require limited recordkeeping. These two proposals together address risks for workers and consumers associated with exposure to TCE through inhalation that were identified in the 2014 TCE risk assessment and EPA intends to finalize both actions together. EPA is hereby extending the comment periods for both proposed rules by 30 calendar days, i.e., for the document issued in the Federal Register of December 16, 2016 (identified by docket ID number EPA-HQ-OPPT-2016-0163), the comment period that was set to end on February 14, 2017, is now scheduled to end on March 16, 2017, and for the document issued in the Federal Register of January 19, 2017 (identified by docket ID number EPA-HQ-OPPT-2016-0387), the comment period that was set to end on March 20, 2017, is now scheduled to end on April 19, 2017.

To submit comments, or access the docket, please follow the detailed instructions provided under ADDRESSES in the Federal Register documents of December 16, 2016 and January 19, 2017. If you have questions, consult the technical person listed under FOR FURTHER INFORMATION CONTACT.

List of Subjects in 40 CFR Part 751

Environmental protection, Chemicals, Export notification, Hazardous substances, Import certification, Trichloroethylene, Recordkeeping.

Dated: February 8, 2017.
Wendy Cleland Hamnett,
Acting Assistant Administrator, Office of Chemical Safety and Pollution Prevention.

[FR Doc. 2017-02965 Filed 2-14-17; 8:45 am]

BILLING CODE 6560-50-P